SUSQUEHANNA RIVER BASIN COMMISSION

Actions Taken at the March 14, 2024 Meeting

AGENCY: Susquehanna River Basin Commission

ACTION: Notice.

SUMMARY: As part of its regular business meeting held on March 14, 2024, in Harrisburg, Pennsylvania, the Commission approved the applications of certain water resources projects and took additional actions, as set forth in the SUPPLEMENTARY INFORMATION below.

DATES: March 14, 2024.

ADDRESSES: Susquehanna River Basin Commission, 4423 N Front Street, Harrisburg, PA 17110-1788.

FOR FURTHER INFORMATION CONTACT: Jason E. Oyler, General Counsel and Secretary, telephone: (717) 238-0423, ext. 1312, fax: (717) 238-2436; email: joyler@srbc.gov. Regular mail inquiries may be sent to the above address. See also the Commission website at www.srbc.gov.

SUPPLEMENTARY INFORMATION: In addition to the actions taken on projects identified in the summary above, these actions were also taken: (1) approved one grant agreement; (2) adopted General Permit GP-03; (3) approved an authorization to release a proposed rulemaking regarding agency procurement for public comment, and (4) actions on 25 regulatory program projects.

Project Applications Approved

1. Project Sponsor and Facility: ADLIB Resources, Inc. (Meshoppen Creek), Springville Township, Susquehanna County, Pa. Application for renewal of surface water withdrawal of up to 0.499 mgd (peak day) (Docket No. 20190301).

2. Project Sponsor and Facility: Beech Resources, LLC (Lycoming Creek), Lycoming Township, Lycoming County, Pa. Application for surface water withdrawal of up to 1.500 mgd (peak day).

3. Project Sponsor and Facility: Cherokee Pharmaceuticals, LLC (Susquehanna River), Riverside Borough, Northumberland County, Pa. Modification to extend the approval terms of the consumptive use and surface water withdrawal approvals (Docket Nos. 20090310 and 20090311) while the facility begins to decommission operations through 2028, and a phased reduction in the surface water withdrawal from 34.392 mgd to 5.100 mgd (peak day) and consumptive use from 0.999 mgd to 0.200 mgd (peak day).

4. Project Sponsor and Facility: Chesapeake Appalachia, L.L.C. (Susquehanna River), Braintrim Township, Wyoming County, Pa. Application for renewal of surface water withdrawal of up to 3.000 mgd (peak day) (Docket No. 20190303).

5. Project Sponsor and Facility: Chesapeake Appalachia, L.L.C. (Susquehanna River), Wysox Township, Bradford County, Pa. Modification to increase surface water withdrawal by an additional 2.001 mgd (peak day) for a total withdrawal of up to 3.000 mgd (peak day) (Docket No. 20220603).

6. Project Sponsor and Facility: Conestoga Country Club, Manor Township, Lancaster County, Pa. Application for renewal of groundwater withdrawal of up to 0.281 mgd (30-day average) from Well 1 (Docket No. 20080617).

7. Project Sponsor: Dauphin County General Authority. Project Facility: Highlands Golf Course, Swatara Township, Dauphin County, Pa. Application for renewal of consumptive use of up to 0.249 mgd (30-day average) (Docket No. 19940104).

8. Project Sponsor: East Hempfield Township. Project Facility: Four Seasons Golf Club, East Hempfield Township, Lancaster County, Pa. Applications for renewal of groundwater withdrawal of up to 0.199 mgd (30-day average) from Well C and consumptive use of up to 0.304 mgd (peak day) (Docket No. 19970504).

9. Project Sponsor: Golf Enterprises, Inc. Project Facility: Valley Green Golf Course, Newberry Township, York County, Pa. Application for renewal of consumptive use of up to 0.099 mgd (30-day average) (Docket No. 20021019).

10. Project Sponsor: Greater Hazleton Community-Area New Development Organization, Inc. Project Facility: CAN DO, Inc.—Corporate Center, Butler Township, Luzerne County, Pa. Application for groundwater withdrawal of up to 0.288 mgd (30-day average) from Well 2.

11. Project Sponsor and Facility: Greylock Production, LLC (Genesee Forks), Hector Township, Potter County, Pa. Application for surface water withdrawal of up to 1.440 mgd (peak day).

12. Project Sponsor and Facility: Greylock Production, LLC (Pine Creek), Ulysses Township, Potter County, Pa. Application for surface water withdrawal of up to 2.592 mgd (peak day).

13. Project Sponsor and Facility: Hegins-Hubley Authority, Hegins Township, Schuylkill County, Pa. Application for renewal of groundwater withdrawal of up to 0.110 mgd (30-day average) from Well 5 (Docket No. 19981204).

14. Project Sponsor and Facility: Keystone Potato Products, LLC, Frailey Township, Schuylkill County, Pa. Applications for groundwater withdrawal of up to 0.140 mgd (30-day average) from Well 2 and consumptive use of up to 0.140 mgd (30-day average).

15. Project Sponsor: New Enterprise Stone & Lime Co., Inc. Project Facility: Laflin Quarry, Plains Township, Luzerne County, Pa. Modification to increase consumptive use by an additional 0.240 mgd (30-day average) for a total consumptive use of up to 0.280 mgd (30-day average) (Docket No. 20230613).

16. Project Sponsor and Facility: New Holland Borough Authority, Earl Township, Lancaster County, Pa. Application for groundwater withdrawal of up to 0.391 mgd (30-day average) from Well 1.

17. Project Sponsor: Post Consumer Brands, LLC. Project Facility: Bloomsburg Plant, South Centre Township, Columbia County, Pa. Applications for renewal of groundwater withdrawal of up to 0.530 mgd (30-day average) from Well 6 and consumptive use of up to 0.800 mgd (peak day) (Docket No. 19910709).

18. Project Sponsor and Facility: PPG Operations LLC (West Branch Susquehanna River), Goshen Township, Clearfield County, Pa. Modification to review withdrawal and approval for use of AMD-impacted water under Commission Policy No. 2021-04 (Docket No. 20210605).

19. Project Sponsor: Rich Valley Golf, Inc. Project Facility: Rich Valley Golf Course (Conodoguinet Creek), Silver Spring Township, Cumberland County, Pa. Applications for renewal of surface water withdrawal of up to 0.325 mgd (peak day) and consumptive use of up to 0.325 mgd (30-day average) (Docket No. 19990306).

20. Project Sponsor and Facility: Seneca Resources Company, LLC (Cowanesque River), Westfield Township, Tioga County, Pa. Application for renewal of surface water withdrawal of up to 0.375 mgd (peak day) (Docket No. 20190311).

21. Project Sponsor: Shadow Ranch Resort, Inc. Project Facility: Shadowbrook Resort (Tunkhannock Creek), Tunkhannock Township, Wyoming County, Pa. Application for renewal of surface water withdrawal of up to 0.999 mgd (peak day) (Docket No. 20190307).

22. Project Sponsor and Facility: Sugar Hollow Water Services LLC (Martins Creek), Hop Bottom Borough, Susquehanna County, Pa. Application for renewal of surface water withdrawal of up to 0.360 mgd (peak day) (Docket No. 20190310).

23. Project Sponsor and Facility: SWN Production Company, LLC (Martins Creek), Brooklyn Township, Susquehanna County, Pa. Application for renewal of surface water withdrawal of up to 0.997 mgd (peak day) (Docket No. 20190312).

Projects Tabled

1. Project Sponsor and Facility: East Cocalico Township Authority, East Cocalico Township, Lancaster County, Pa. Application for renewal of groundwater withdrawal of up to 0.115 mgd (30-day average) from Well 2A (Docket No. 19990901).

2. Project Sponsor and Facility: Newport Borough Water Authority, Oliver Township, Perry County, Pa. Application for early renewal of groundwater withdrawal at an increased rate of up to 0.096 mgd (30-day average) from Well 1 (Docket No. 20140908).

Authority: Public Law 91-575, 84 Stat. 1509 et seq., 18 CFR parts 806, 807, and 808.

Dated: March 15, 2024.
Jason E. Oyler,
General Counsel and Secretary to the Commission.

[FR Doc. 2024-05897 Filed 3-19-24; 8:45 am]

BILLING CODE 7040-01-P